DEPARTMENT OF DEFENSE

Office of the Secretary

[Docket ID DOD-2018-OS-0030]

Proposed Collection; Comment Request

AGENCY: Office of the Undersecretary of Defense for Personnel and Readiness, DoD.

ACTION: Information collection notice.

SUMMARY: In compliance with the Paperwork Reduction Act of 1995, the Office of the Undersecretary of Defense for Personnel and Readiness announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 30, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to National Security Education Program, 4800 Mark Center Drive, Suite 08F09-02, Alexandria, VA 22350-7000 or call 576-256-0711.

SUPPLEMENTARY INFORMATION:

Title; Associated Form; and OMB Number: National Security Education Program (NSEP) Service Agreement Report for Scholarship and Fellowship Awards; DD Form 2752 and DD Form 2753; OMB Control Number 0704-0368.

Needs and Uses: The information collection requirement is necessary to record the original award amount and service requirement for each NSEP award recipient (DD Form 2752) and the progress of each NSEP award recipient in fulfilling his/her Congressionally-mandated service requirement signed at the time of award (DD Form 2753).

Affected Public: Individuals or Households; Not-for-Profit Institutions.

Annual Burden Hours: 275.

Number of Respondents: 1,650.

Responses per Respondent: 1.

Annual Responses: 1,650.

Average Burden per Response: 10 minutes.

Frequency: On Occasion.

Respondents are undergraduate and graduate students who agree to the terms of their award (DD Form 2752) and who agree upon receipt of award to submit the Service Agreement Report (DD Form 2753) annually until their service requirement is completed in full. Through a cooperative agreement, the Institute of International Education acts as the administrative agent for these scholarship, fellowship, and grant programs and certifies the information provided on the two forms. The information is used to monitor the progress of award recipients as they fulfill their service obligation, namely, to work in positions related to national security.

Dated: May 24, 2018.
Shelly E. Finke,
Alternate OSD Federal Register, Liaison Officer, Department of Defense.

[FR Doc. 2018-11602 Filed 5-30-18; 8:45 am]

BILLING CODE 5001-06-P